ENVIRONMENTAL PROTECTION AGENCY

[EPA-HQ-OECA-2012-0676; FRL-9532-2]

Agency Information Collection Activities; Submission to OMB for Review and Approval; Comment Request, NESHAP for Phosphoric Acid Manufacturing and Phosphate Fertilizers Production (Renewal)

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR which is abstracted below describes the nature of the collection and the estimated burden and cost.

DATES: Additional comments may be submitted on or before July 19, 2013.

ADDRESSES: Submit your comments, referencing docket ID number EPA-HQ-OECA-2012-0676, to: (1) EPA online, using www.regulations.gov (our preferred method), or by email to: docket.oeca@epa.gov, or by mail to: EPA Docket Center (EPA/DC), Environmental Protection Agency, Enforcement and Compliance Docket and Information Center, mail code 28221T, 1200 Pennsylvania Avenue NW., Washington, DC 20460; and (2) OMB at: Office of Information and Regulatory Affairs, Office of Management and Budget (OMB), Attention: Desk Officer for EPA, 725 17th Street NW., Washington, DC 20503.

FOR FURTHER INFORMATION CONTACT: Learia Williams, Office of Compliance, Mail Code 2227A, Environmental Protection Agency, 1200 Pennsylvania Avenue NW., Washington, DC 20460; telephone number: (202) 564-4113; fax number: (202) 564-0050; email address: williams.learia@epa.gov.

SUPPLEMENTARY INFORMATION: EPA has submitted the following ICR to OMB for review and approval according to the procedures prescribed in 5 CFR 1320.12. On October 17, 2012 (77 FR 63813) EPA sought comments on this ICR pursuant to 5 CFR 1320.8(d). EPA received no comments. Any additional comments on this ICR should be submitted to both EPA and OMB within 30 days of this notice.

EPA has established a public docket for this ICR under docket ID number EPA-HQ-OECA-2012-0676, which is available for either public viewing online at http://www.regulations.gov, or in person viewing at the Enforcement and Compliance Docket in the EPA Docket Center (EPA/DC), EPA West, Room 3334, 1301 Constitution Avenue NW, Washington, DC. The EPA Docket Center Public Reading Room is open from 8:30 a.m. to 4:30 p.m., Monday through Friday, excluding legal holidays. The telephone number for the Reading Room is (202) 566-1744, and the telephone number for the Enforcement and Compliance Docket is (202) 566-1752.

Use EPA's electronic docket and comment system at http://www.regulations.gov to either submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, Confidentiality of Business Information (CBI), or other information whose public disclosure is restricted by statute. For further information about the electronic docket, go to www.regulations.gov.

Title: NESHAP for Phosphoric Acid Manufacturing and Phosphate Fertilizers Production (Renewal)

ICR Numbers: EPA ICR Number 1790.06, OMB Control Number 2060-0361

ICR Status: This ICR is scheduled to expire on June 30, 2013. Under OMB regulations, the Agency may continue to either conduct or sponsor the collection of information while this submission is pending at OMB.

Abstract: The affected entities are subject to the General Provisions of the NESHAP at 40 CFR part 63, subpart A, and any changes, or additions to the Provisions specified at 40 CFR part 63, subparts AA and BB. Owners or operators of the affected facilities must submit initial notification, performance tests, and periodic reports and results. Owners or operators are also required to maintain records of the occurrence and duration of any startup, shutdown, or malfunction in the operation of an affected facility, or any period during which the monitoring system is inoperative. Reports are required semiannually at a minimum.

Respondents/Affected Entities: Phosphoric acid manufacturing and phosphate fertilizers production facilities

Estimated Number of Respondents: 12

Frequency of Response: Initially, occasionally, semiannually and annually

Estimated Total Annual Hour Burden: 1,765

Estimated Total Annual Cost: $181,581, which includes $170,949 in labor costs, no capital/startup costs, and $10,632 in operation and maintenance (O&M) costs.

Changes in the Estimates: There is an increase in burden for both the respondents and the Agency due to an adjustment. The previous ICR assumed the per-respondent burden hour for each activity is inclusive of all technical, managerial, and clerical hours. This ICR assumes the per-respondent burden hour includes technical hours only, and that managerial and clerical hours are additional 5 and 10 percent of technical hours, respectively. In addition, this ICR uses updated labors rates available from the Bureau of Labor Statistics to calculate burden costs, which results in an adjustment increase in both labor hours and costs.

Additionally, there is a decrease in the estimated number of responses due to a correction. The previous ICR assumed that each respondent would have to submit annual, semiannual, and quarterly reports, or a total of seven reports per year, which is inconsistent with the assumptions used to calculate respondent reporting burden. This ICR corrects the number of responses and clarifies that quarterly reports are only required if there are excess emissions.

John Moses,
Director, Collection Strategies Division.

[FR Doc. 2013-14482 Filed 6-18-13; 8:45 am]

BILLING CODE 6560-50-P